ENVIRONMENTAL PROTECTION AGENCY

40 CFR Part 81

[EPA-R04-OAR-2007-0958-201005(c); FRL-9122-1]

Determination of Nonattainment and Reclassification of the Atlanta, Georgia, 8-Hour Ozone Nonattainment Area; Correction

AGENCY: Environmental Protection Agency (EPA).

ACTION: Final rule; correcting amendment.

SUMMARY: On March 6, 2008, EPA published a document reclassifying the Atlanta, Georgia, area from marginal to moderate for the 1997 8-hour ozone nonattainment area by operation of law. This action clarifies a portion of the preamble language in the aforementioned Federal Register notice.

DATES: This action is effective March 4, 2010.

ADDRESSES: Copies of the documentation used in the action being corrected are available for inspection during normal business hours at the following location: U.S. Environmental Protection Agency, Region 4, 61 Forsyth Street, SW., Atlanta, Georgia 30303-8960. The Regional Office's official hours of business are Monday through Friday, 8:30 to 4:30, excluding Federal holidays.

FOR FURTHER INFORMATION CONTACT: Ms. Stacy Harder, Regulatory Development Section, Air Planning Branch, Air, Pesticides and Toxics Management Division, U.S. Environmental Protection Agency, Region 4, 61 Forsyth Street, SW., Atlanta, Georgia 30303-8960. Ms. Harder can be reached at 404-562-9042, or via electronic mail at harder.stacy@epa.gov.

SUPPLEMENTARY INFORMATION: This action corrects preamble language for a designation that appears in Georgia's Attainment Designation Status section at 40 CFR part 81.311. The reclassification of the Atlanta Area from marginal to moderate for the 1997 8-hour ozone standard, was approved by EPA on March 6, 2008 (73 FR 12013). However, EPA inadvertently excluded Hall County from the list of counties included in the Atlanta, Georgia, 1997 8-hour ozone nonattainment area in the preamble portion of the rulemaking. Also, EPA inadvertently included Pickens County in the list of counties included in the Atlanta, Georgia, 1997 8-hour ozone nonattainment area, in the preamble portion of the rulemaking. Additionally, EPA is clarifying that “Bartow” and “Spalding” Counties were inadvertently misspelled as “Barton” and “Spaulding” Counties on page 12014. Therefore, EPA is correcting this inadvertent error by clarifying that the first sentence, in the second paragraph, in the first column, of page 12014 (SUPPLEMENTARY INFORMATION, Section I) should read: “The Atlanta Area is located in Northern Georgia and consists of Barrow, Bartow, Carroll, Cherokee, Clayton, Cobb, Coweta, DeKalb, Douglas, Fayette, Forsyth, Fulton, Gwinnett, Hall, Henry, Newton, Paulding, Rockdale, Spalding and Walton Counties.” The regulatory portion of the notice, found at 40 CFR 81.311, is correct as written in the March 6, 2008, rulemaking.

EPA has determined that today's action falls under the “good cause” exemption in section 553(b)(3)(B) of the Administrative Procedure Act (APA) which, upon finding “good cause,” authorizes agencies to dispense with public participation where public notice and comment procedures are impracticable, unnecessary, or contrary to the public interest. Public notice and comment for this action are unnecessary because today's action to clarify the list of counties included in the Atlanta 1997 8-hour ozone nonattainment area, in the narrative portion of the rulemaking, has no substantive impact on EPA's March 6, 2008, approval of this regulation. In addition, EPA can identify no particular reason why the public would be interested in being notified of the correction of this omission, or in having the opportunity to comment on the correction prior to this action being finalized, since this correction action does not change the meaning of EPA's analysis or action to reclassify the Atlanta 1997 8-hour ozone nonattainment area from marginal to moderate.

EPA also finds that there is good cause under APA section 553(d)(3) for this correction to become effective on the date of publication of this action. Section 553(d)(3) of the APA allows an effective date less than 30 days after publication “as otherwise provided by the agency for good cause found and published with the rule.” 5 U.S.C. 553(d)(3). The purpose of the 30-day waiting period prescribed in APA section 553(d)(3) is to give affected parties a reasonable time to adjust their behavior and prepare before the final rule takes effect. Today's rule, however, does not create any new regulatory requirements such that affected parties would need time to prepare before the rule takes effect. Rather, today's rule merely corrects an inadvertent error in the preamble portion of a prior rule by clarifying the list of counties included in the 1997 8-hour ozone nonattainment area, which EPA approved on March 6, 2008. For these reasons, EPA finds good cause under APA section 553(d)(3) for this correction to become effective on the date of publication of this action.

Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely corrects an inadvertent error of omission in the preamble of a prior rule by identifying the list of counties included in the Atlanta 1997 8-hour ozone nonattainment area in a regulation which EPA approved on March 6, 2008, and imposes no additional requirements beyond those imposed by state law. Accordingly, the Administrator certifies that this rule will not have a significant economic impact on a substantial number of small entities under the Regulatory Flexibility Act (5 U.S.C. 601 et seq.). Because this rule merely corrects an inadvertent error in the preamble of a prior rule, and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This rule also does not have Federalism implications because it does not have substantial direct effects on the states, on the relationship between the national government and the states, or on the distribution of power and responsibilities among the various levels of government, as specified in Executive Order 13132 (64 FR 43255, August 10, 1999). This rule merely corrects an inadvertent error of omission in the preamble of a prior rule by identifying the list of counties included in the Atlanta 1997 8-hour ozone nonattainment area in a regulation which EPA approved on March 6, 2008, and does not alter the relationship or the distribution of power and responsibilities established in the Clean Air Act. This rule also is not subject to Executive Order 13045 “Protection of Children from Environmental Health Risks and Safety Risks” (62 FR 19885, April 23, 1997), because it is not economically significant. In addition, this rule does not involve technical standards, thus the requirements of section 12(d) of the National Technology Transfer and Advancement Act of 1995 (15 U.S.C. 272 note) do not apply. This rule also does not impose an information collection burden under the provisions of the Paperwork Reduction Act of 1995 (44 U.S.C. 3501 et seq.).

The Congressional Review Act, 5 U.S.C. section 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. section 804(2).

Under section 307(b)(1) of the Clean Air Act (CAA), petitions for judicial review of this action must be filed in the United States Court of Appeals for the appropriate circuit by May 3, 2010. Filing a petition for reconsideration by the Administrator of this final rule does not affect the finality of this rule for the purposes of judicial review nor does it extend the time within which a petition for judicial review may be filed, and shall not postpone the effectiveness of such rule or action. This action may not be challenged later in proceedings to enforce its requirements. (See CAA section 307(b)(2).)

Authority: 42 U.S.C. 7401 et seq.

Dated: February 23, 2010.
Beverly H. Banister,
Acting Regional Administrator, Region 4.

[FR Doc. 2010-4533 Filed 3-3-10; 8:45 am]

BILLING CODE 6560-50-P